DEPARTMENT OF DEFENSE

Department of the Air Force

[Docket ID: USAF-2011-0009]

Privacy Act of 1974; System of Records

AGENCY: Department of the Air Force, DoD.

ACTION: Notice to alter a system of records.

SUMMARY: The Department of the Air Force is proposing to alter a system of records notice in its existing inventory of records systems subject to the Privacy Act of 1974, (5 U.S.C. 552a), as amended.

DATES: The proposed action will be effective on April 18, 2011 unless comments are received that would result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, 703-696-6488, or the Department of the Air Force Privacy Office, Air Force Privacy Act Office, Office of Warfighting Integration and Chief Information officer, ATTN: SAF/XCPPI, 1800 Air Force Pentagon, Washington DC 20330-1800.

SUPPLEMENTARY INFORMATION: The Department of the Air Force systems of records notices subject to the Privacy Act of 1974, (5 U.S.C. 552a), as amended, have been published in the Federal Register and are available from the FOR FURTHER INFORMATION CONTACT address above.

The proposed systems reports, as required by 5 United States Code 552a(r) of the Privacy Act, were submitted on March 8, 2011 to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996, 61 FR 6427).

Dated: March 10, 2011.
Morgan F. Park,
Alternate OSD Federal Register Liaison Officer, Department of Defense.

F044 AFPC A

System name:

Medical Assignment Limitation Record System (August 29, 2003, 68 FR 51998).

Changes:

* * * * *

System location:

Delete entry and replace with “Headquarters Air Force Personnel Center, Medical Service Officer Management Division, Medical Retention Standards Branch, 550 C Street West, Randolph Air Force Base, TX 78150-4727.”

Categories of individuals covered by the system:

Delete entry and replace with “All active duty Air Force members who develop, as determined by the local Deployment Availability Working Group, a medical condition that may warrant placement on an Assignment Limitation Code (ALC) in Military Personnel Data System (MilPDS). This includes all cases presented to a Medical Evaluation Board or Physical Evaluation Board that were returned to duty and therefore considered for an ALC. An ALC flags the member in MilPDS as medical waiver required for deployments and overseas assignments.”

Categories of records in the system:

Delete entry and replace with “Medical Evaluation and Physical Evaluation Board packages, Report of Medical Examination, Report of Medical History, Narrative Summary, Armed Forces Health Longitudinal Technology Application (AHLTA) medical record documentation, Clinical Record Consultation Sheet, Electrocardiographic Record, Pulmonary Function Testing reports, laboratory results, commander letters, and Deployment Availability Working Group summary. Personally identifiable information included in the above records includes name, Social Security Number (SSN), and date of birth.”

Authority for maintenance of the system:

Delete entry and replace with “10 U.S.C. 8013, Secretary of the Air Force; Air Force Instruction 36-3212, Physical Evaluation for Retention, Retirement and Separation; and Air Force Instruction 36-2110, Assignments; and E.O. 9397 (SSN), as amended.”

Purpose(s):

Delete entry and replace with “Collect applicable medical information and commander input to determine appropriate medical Assignment Limitation Code (ALC).”

Routine uses of records maintained in the system, including categories of users and the purposes of such uses:

Delete entry and replace with “In addition to those disclosures generally permitted under 5 U.S.C. 552a(b) of the Privacy Act of 1974, these records contained therein, may specifically be disclosed outside the DoD as a routine use pursuant to 5 U.S.C. 552a(b)(3) as follows:

The DoD `Blanket Routine Uses' published at the beginning of the Air Force's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

Policies and practices for storing, retrieving, accessing, retaining, and disposing of records in the system:

Storage:

Delete entry and replace with “Maintained in hardcopy file folders and electronic storage media.”

Retrievability:

Delete entry and replace with “Electronic and hardcopy files are retrieved by last name and last four digits of Social Security Number (SSN).”

Safeguards:

Delete entry and replace with “Records are accessed by person(s) responsible for servicing the record system in performance of their official duties. Records are stored in locked rooms and cabinets and electronic records are accessible by use of the Common Access Card (CAC) and site specific login.”

Retention and disposal:

Delete entry and replace with “Retained in office files for two years or when no longer needed for reference, then destroyed by tearing into pieces, shredding, pulping, macerating, burning, or deleting.”

System manager(s) and address:

Delete entry and replace with “Headquarters Air Force Personnel Center, Medical Service Officer Utilization Division, Chief, Medical Retention Standards Branch, Randolph Air Force Base, TX 78150-4727.”

Notification procedures:

Delete entry and replace with “Individuals seeking to determine whether this system of records contains information on themselves should address written inquiries to Headquarters Air Force Personnel Center, Medical Service Officer Management Division, Chief, Medical Retention Standards Branch, Randolph Air Force Base, TX 78150-4727.

For verification purposes, individual should provide their full name, Social Security Number (SSN), any details, which may assist in locating records, and their signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking to access records about themselves contained in this system should address written requests to Headquarters Air Force Personnel Center, Medical Service Officer Utilization Division, Chief, Medical Retention Standards Branch, Randolph Air Force Base, TX 78150-4727.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Contesting record procedures:

Delete entry and replace with “The Air Force rules for accessing records and for contesting contents and appealing initial agency determinations are published in 32 CFR part 806b, Air Force Instruction 33-332, Air Force Privacy Program and may be obtained from the system manager.”

* * * * *

F044 AFPC A

System name:

Medical Assignment Limitation Record System.

System location:

Headquarters Air Force Personnel Center, Medical Service Officer Management Division, Medical Retention Standards Branch, 550 C Street West, Randolph Air Force Base, TX 78150-4727.

Categories of individuals covered by the system:

All active duty Air Force members who develop, as determined by the local Deployment Availability Working Group, a medical condition that may warrant placement on an Assignment Limitation Code (ALC) in Military Personnel Data System (MilPDS). This includes all cases presented to a Medical Evaluation Board or Physical Evaluation Board that were returned to duty and therefore considered for an ALC. An ALC flags the member in MilPDS as medical waiver required for deployments and overseas assignments.

Categories of records in the system:

Medical Evaluation and Physical Evaluation Board packages, Report of Medical Examination, Report of Medical History, Narrative Summary, Armed Forces Health Longitudinal Technology Application (AHLTA) medical record documentation, Clinical Record Consultation Sheet, Electrocardiographic Record, Pulmonary Function Testing reports, laboratory results, commander letters, Deployment Availability Working Group summary. Personally identifiable information included in the above records includes name, Social Security Number (SSN), and date of birth.

Authority for maintenance of the system:

10 U.S.C. 8013, Secretary of the Air Force; Air Force Instruction 36-3212, Physical Evaluation for Retention, Retirement and Separation; and Air Force Instruction 36-2110, Assignments and E.O. 9397 (SSN), as amended.

Purpose(s):

Collect applicable medical information and commander input to determine appropriate medical Assignment Limitation Code (ALC).

Routine uses of records maintained in the system, including categories of users and the purposes of such uses:

In addition to those disclosures generally permitted under 5 U.S.C. 552a(b) of the Privacy Act of 1974, these records contained therein, may specifically be disclosed outside the DoD as a routine use pursuant to 5 U.S.C. 552a(b)(3) as follows:

The DoD `Blanket Routine Uses' published at the beginning of the Air Force's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in hardcopy file folders and electronic storage media.

Retrievability:

Electronic and hardcopy files are retrieved by last name and last four digits of Social Security Number (SSN).

Safeguards:

Records are accessed by person(s) responsible for servicing the record system in performance of their official duties. Records are stored in locked rooms and cabinets and electronic records are accessible by use of the Common Access Card (CAC) and site specific login.

Retention and disposal:

Retained in office files for two years or when no longer needed for reference, then destroyed by tearing into pieces, shredding, pulping, macerating, burning, or deleting.

System manager(s) and address:

Headquarters Air Force Personnel Center, Medical Service Officer Utilization Division, Chief, Medical Retention Standards Branch, Randolph Air Force Base, TX 78150-4727.

Notification procedures:

Individuals seeking to determine whether this system of records contains information on themselves should address written inquiries to Headquarters Air Force Personnel Center, Medical Service Officer Management Division, Chief, Medical Retention Standards Branch, Randolph Air Force Base, TX 78150-4727.

For verification purposes, individual should provide their full name, Social Security Number (SSN), any details, which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking to access records about themselves contained in this system should address written requests to Headquarters Air Force Personnel Center, Medical Service Officer Utilization Division, Chief, Medical Retention Standards Branch, Randolph Air Force Base, TX 78150-4727.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Air Force rules for accessing records and for contesting contents and appealing initial agency determinations are published in 32 CFR part 806b, Air Force Instruction 33-332, Air Force Privacy Program and may be obtained from the system manager.

Record source categories:

Information obtained from military and civilian medical institutions and correspondence as related to board proceedings.

Exemptions claimed for the system:

None.

[FR Doc. 2011-6356 Filed 3-17-11; 8:45 am]

BILLING CODE 5001-06-P